DEPARTMENT OF DEFENSE

Office of the Secretary

[Docket ID: DoD-2013-OS-0237]

Proposed Collection; Comment Request

AGENCY: Office of the Undersecretary of Defense for Personnel & Readiness, DoD.

ACTION: Notice.

SUMMARY: In compliance with Section 3506(c)(2)(A) of the Paperwork Reduction Act of 1995, the Office of the Undersecretary of Defense for Personnel & Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 3, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Director, Military Community Outreach, Military Community and Family Policy, 4000 Defense Pentagon Room 2E355, Washington, DC 20301-2400, ATTN: Ms. Beth Riffle, or 703-695-3265.

SUPPLEMENTARY INFORMATION: Title; Associated Form; and OMB Number: Military OneSource Case Management System (CMS)—Intake; OMB Control Number 0704-XXXX.

Needs and Uses: The information collection requirement is necessary to support the Military OneSource Case Management System which will document an individual's eligibility; identification of the caller's inquiry or issue to provide a warm hand-off, referral and/or requested information; the development towards a final solution and referral information. Records may be used as a management tool for statistical analysis, tracking, reporting, and evaluating program effectiveness and conducting research. Information about individuals indicating a threat to self or others will be reported to the appropriate authorities in accordance with DoD/Military Branch of Service and Component regulations and established protocols.

Affected Public: Individuals or households; Federal Government.

Annual Burden Hours: 45,000.

Number of Respondents: 900,000.

Responses per Respondent: 1.

Average Burden per Response: 3 minutes.

Frequency: On occasion.

Respondents are military service members and their families accessing Military OneSource for support for an inquiry or issue. Military OneSource is a Department of Defense-funded program providing comprehensive information on every aspect of military life at no cost to active duty, National Guard and reserve service members and their families. Military OneSource call center and online support is available 24/7 from master's level consultants for practical information and referrals on issues such as handling a move or finding resources in your area. Respondents may access Military OneSource for support for issues such as:

• Specialty consultations with trained professionals on health and wellness, wounded warriors, financial issues, education, adoption, language translation and interpretation, and special needs.

• Non-medical counseling which addresses issues requiring short-term attention including everyday stressors, grief, deployment and reintegration concerns.

• Activities of daily living such as childhood issues, tax consultation, elder care, etc.

Dated: December 27, 2013.
Aaron Siegel,
Alternate OSD Federal Register Liaison Officer, Department of Defense.

[FR Doc. 2013-31388 Filed 12-31-13; 8:45 am]

BILLING CODE 5001-06-P